DEFENSE NUCLEAR FACILITIES SAFETY BOARD

Sunshine Act Meeting

Pursuant to the provision of the “Government in the Sunshine Act” (5 U.S.C. 552b), notice is hereby given of the Defense Nuclear Facilities Safety Board's (Board) meeting described below.

TIME AND DATE OF MEETING: 9:00 a.m., March 28, 2001.

PLACE: The Defense Nuclear Facilities Safety Board, Public Hearing Room, 625 Indiana Avenue, NW, Suite 300, Washington, DC 20004.

STATUS: Open.

MATTERS TO BE CONSIDERED: The Department of Energy (DOE) requires contractors at defense nuclear facilities to develop and implement quality assurance programs to ensure the requisite quality of operations, products, and services. Activities required to be conducted under established quality assurance programs extend from scientific studies, to the design of new facilities, operations of facilities, and deactivation of defense nuclear facilities and directly affect safety-related systems and operations. Notwithstanding contract and rule requirements concerning quality assurance, there is evidence that quality assurance programs at defense nuclear facilities are not consistently achieving their quality objectives.

The Defense Nuclear Facilities Safety Board (Board) intends to hold a series of open meetings on the topic of quality assurance within the DOE nuclear defense activities. Board inquiries will address (1) the current framework of DOE quality assurance programs relative to industry standards, and (2) results of DOE assessments of contractor implementation of quality assurance requirements.

CONTACT PERSON FOR MORE INFORMATION: Richard A. Azzaro, General Counsel, Defense Nuclear Facilities Safety Board, 625 Indiana Avenue, NW, Suite 700, Washington, DC 20004, (800) 788-4016. This is a toll-free number.

SUPPLEMENTARY INFORMATION: The Defense Nuclear Facilities Safety Board reserves its right to further schedule and otherwise regulate the course of this meeting, to recess, reconvene, postpone or adjourn the meeting, and otherwise exercise its authority under the Atomic Energy Act of 1954, as amended.

Dated: March 1, 2001.
John T. Conway,
Chairman.

[FR Doc. 01-5403 Filed 3-1-01; 12:51 pm]

BILLING CODE 3670-01-P